DEPARTMENT OF ENERGY

Sunshine Act Meeting

AGENCY HOLDING MEETING: Federal Energy Regulatory Commission.

FEDERAL REGISTER CITATION OF PREVIOUS ANNOUNCEMENT: 12/17/2001 66 FR 64969.

PREVIOUSLY ANNOUNCED TIME AND DATE OF MEETING: December 19, 2001 10:00 a.m.

CHANGE IN THE MEETING: The following Docket Nos. and Company have been added to Item E-70 of the Commission Meeting of December 19, 2001.

Item No.: E-70.

Docket No. and Company: ER00-2998-001, ER00-2999-001, ER00-3000-001, and ER00-3001-001, Southern Company Services, Inc.

Linwood A. Watson, Jr.,
Acting Secretary.

[FR Doc. 01-32143 Filed 12-26-01; 4:24 pm]

BILLING CODE 6717-01-M